DEPARTMENT OF THE INTERIOR

Fish and Wildlife Service

Notice of Availability of the Draft Restoration Plan and Environmental Assessment for the Certus, Inc. Chemical Spill Natural Resource Damage Assessment in Lee County, VA

AGENCY: U.S. Fish and Wildlife Service, Department of the Interior.

ACTION: Notice of availability.

SUMMARY: The U.S. Fish and Wildlife Service (Service), on behalf of the Department of the Interior (DOI) and the Commonwealth of Virginia, announces the release for public review of the Draft Restoration Plan and Environmental Assessment (RP/EA) for the Certus, Inc. Chemical Spill Natural Resource Damage Assessment in Tazewell County, Virginia. The draft RP/EA describes the trustees' proposal to restore natural resources injured as a result of a release of hazardous substances.

DATES: Written comments must be submitted within 30 days from the date of publication of this notice.

ADDRESSES: Requests for copies of the draft RP/EA may be made to: U.S. Fish and Wildlife Service, Virginia Field Office, 6669 Short Lane, Gloucester, Virginia 23061. Written comments or materials regarding the draft RP/EA should be sent to the same address.

FOR FURTHER INFORMATION CONTACT: John Schmerfeld, U.S. Fish and Wildlife Service, 6669 Short Lane, Gloucester, Virginia 23061. Interested parties may also call 804-693-6694, extension 107, for further information.

SUPPLEMENTARY INFORMATION: On August 27, 1998, a tanker truck overturned on U.S. Route 460 in Tazewell County, Virginia. The truck released approximately 1,350 gallons of Octocure 554-revised, a rubber accelerant, into an unnamed tributary about 530 feet from its confluence with the Clinch River. The spill turned the river a snowy white color and caused a significant fish kill. The spill also killed most aquatic benthic invertebrates for about 7 miles downstream and destroyed one of the last two known remaining reproducing populations of the endangered tan riffleshell mussel. A consent decree was entered with the U.S. District Court for the Western District of Virginia, Abingdon Division, by the United States and Certus, Inc. on April 7, 2003, to address natural resource damages resulting from the 1998 release. The consent decree stipulates that settlement funds are to be “* * * managed by the DOI for the joint benefit and use of the Federal and State Trustees to plan, perform, monitor and oversee native, freshwater mussel restoration projects within the Clinch River watershed * * *.”

Under the authority of the Comprehensive Environmental Response, Compensation and Liability Act (CERCLA) of 1980, as amended, 42 U.S.C. 9601 et seq., “natural resource trustees may assess damages to natural resources resulting from a discharge of oil or a release of a hazardous substance * * * and may seek to recover those damages.” Natural resource damage assessments are separate from the cleanup actions undertaken at a hazardous waste or spill site, and provide a process whereby the natural resource trustees can determine the proper compensation to the public for injury to natural resources. The natural resource damage assessment process seeks to: (1) Determine whether injury to, or loss of, trust resources has occurred; (2) ascertain the magnitude of the injury or loss; (3) calculate the appropriate compensation for the injury, including the cost of restoration; and (4) develop a restoration plan that will restore, rehabilitate, replace, and/or acquire equivalent resources for those resources that were injured or lost.

This draft RP/EA has been developed by the Service in order to address and evaluate restoration alternatives related to natural resource injuries within the Clinch River watershed. The purpose of this RP/EA is to design and evaluate possible alternatives that will restore, rehabilitate, replace, or acquire natural resources, and the services provided by those resources, that approximate those injured as a result of the spill using funds collected as natural resource damages for injuries, pursuant to the CERCLA. This draft RP/EA describes the affected environment, identifies potential restoration alternatives and their plausible environmental consequences, and describes the proposed preferred alternative.

Section 111(i) of the CERCLA requires natural resource trustees to develop a restoration plan prior to allocating recoveries to implement restoration actions, and to obtain public comment on that plan. Under the National Environmental Policy Act (NEPA), Federal agencies must identify and evaluate environmental impacts that may result from Federal actions. This draft RP/EA integrates CERCLA and NEPA requirements by summarizing the affected environment, describing the purpose and need for action, and describing the restoration activities considered, including the alternative preferred by the Trustees.

This draft RP/EA will be available for review and comment by interested members of the public, natural resource Trustees, and other affected Federal or State agencies or Native American tribes, for a period of 30 days from the date of publication of this notice. Comments must be submitted in writing to: John Schmerfeld, U.S. Fish and Wildlife Service, Virginia Field Office, 6669 Short Lane, Gloucester, Virginia 23061.

Comments, including names and home addresses of respondents, will be available for public review during regular business hours. Individual respondents may request confidentiality. If you wish us to withold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Interested members of the public are invited to review and comment on the draft RP/EA. Copies of the draft RP/EA are available for review at the Service's Virginia Field Office in Gloucester, Virginia, and at the Service's Southwestern Virginia Field Office located at 330 Cummings Street, Suite A, Abingdon, Virginia 24210. Written comments will be considered and addressed in the final RP/EA.

Author: The primary author of this notice is John Schmerfeld, U.S. Fish and Wildlife Service, Virginia Field Office, 6669 Short Lane, Gloucester, Virginia 23061.

Authority: The authority for this action is the Comprehensive Environmental Response, Compensation and Liability Act of 1980 as amended, commonly known as Superfund (42 U.S.C. 9601 et seq.), and DOI's Natural Resource Damage Assessment Regulations found at 43 CFR, part 11.

Dated: May 17, 2004.
Richard O. Bennett,
Acting Regional Director, Region 5, U.S. Fish and Wildlife Service, U.S. Department of the Interior, Designated Authorized Official.

[FR Doc. 04-11640 Filed 5-21-04; 8:45 am]

BILLING CODE 4310-55-P